DEPARTMENT OF COMMERCE

Foreign-Trade Zones Board

[Order No. 1879]

Reorganization/Expansion of Foreign-Trade Zone 90 Under Alternative Site Framework, Onondaga County, NY

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the County of Onondaga, New York, grantee of Foreign-Trade Zone 90, submitted an application to the Board (FTZ Docket B-61-2012, docketed 8/6/2012) for authority to reorganize and expand under the ASF with a service area of Onondaga, Cayuga, Oswego and Madison Counties, New York, in and adjacent to the Syracuse Customs and Border Protection port of entry, FTZ 90's existing Site 1 would be removed, and the grantee proposes two new magnet sites (Sites 2 and 3);

Whereas, notice inviting public comment was given in the Federal Register (77 FR 47815-47816, 8/10/2012) and the application has been processed pursuant to the FTZ Act and the Board's regulations; and,

Whereas, the Board adopts the findings and recommendation of the examiner's report, and finds that the requirements of the FTZ Act and the Board's regulations are satisfied, and that the proposal is in the public interest;

Now, therefore, the Board hereby orders:

The application to reorganize FTZ 90 under the alternative site framework is approved, subject to the FTZ Act and the Board's regulations, including Section 400.13, to the Board's standard 2,000-acre activation limit for the zone, and to a five-year ASF sunset provision for magnet sites that would terminate authority for Sites 2 and 3 if not activated by January 31, 2018.

Signed at Washington, DC, this 6th day of February 2013.
Paul Piquado,
Assistant Secretary of Commerce for Import Administration, Alternate Chairman, Foreign-Trade Zones Board.

Attest:

Andrew McGilvray,
Executive Secretary.

[FR Doc. 2013-03362 Filed 2-12-13; 8:45 am]

BILLING CODE P